FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping Provisions Associated with Stress Testing Guidance (FR 4202; OMB No. 7100-0348).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR 4202.

Final Approval Under OMB Delegated Authority of the Extension for Three Years, Without Revision, of the Following Information Collection

Collection title: Recordkeeping Provisions Associated with Stress Testing Guidance.

Collection identifier: FR 4202.

OMB control number: 7100-0348.

General description of collection: The Stress Testing Guidance was issued jointly by the Board, Federal Deposit Insurance Corporation, and Office of the Comptroller of the Currency on May 17, 2012. The interagency guidance outlines high-level principles for stress testing practices applicable to all Board-supervised banking organizations with more than $10 billion in total consolidated assets.

Frequency: Event-generated.

Respondents: Board-supervised banking organizations with more than $10 billion in total consolidated assets. These include state member banks, bank holding companies, and all other institutions for which the Board is the primary federal supervisor.

Total estimated number of respondents: 135.

Total estimated annual burden hours: 13,920.

Current actions: On February 16, 2024, the Board published a notice in the Federal Register (89 FR 12339) requesting public comment for 60 days on the extension, without revision, of the FR 4202. The comment period for this notice expired on April 16, 2024. The Board did not receive any comments.

Board of Governors of the Federal Reserve System, June 25, 2024.
Benjamin W. McDonough,
Deputy Secretary and Ombuds of the Board.

[FR Doc. 2024-14366 Filed 6-28-24; 8:45 am]

BILLING CODE 6210-01-P